ENVIRONMENTAL PROTECTION AGENCY

[EPA-HQ-OPPT-2014-0486; FRL 9926-20-OEI]

Information Collection Request Submitted to OMB for Review and Approval; Comment Request; Lead-Based Paint Pre-Renovation Information Dissemination (Renewal)

AGENCY: Environmental Protection Agency (EPA).

ACTION: Notice.

SUMMARY: The Environmental Protection Agency has submitted a new information collection request (ICR), “Lead-Based Paint Pre-Renovation Information Dissemination (Renewal)” (EPA ICR No. 1669.07, OMB Control No. 2070-0158) to the Office of Management and Budget (OMB) for review and approval in accordance with the Paperwork Reduction Act (44 U.S.C. 3501 et seq.). This is a proposed extension of the ICR, which is currently approved through April 30, 2015. Public comments were previously requested via the Federal Register (79 FR 78084) on December 29, 2014, during a 60-day comment period. This notice allows for an additional 30 days for public comments. A full description of the ICR is given below, including its estimated burden and cost to the public. An agency may not conduct or sponsor and a person is not required to respond to a collection of information unless it displays a currently valid OMB control number.

DATES: Additional comments may be submitted on or before May 28, 2015.

ADDRESSES: Submit your comments, referencing Docket ID Number EPA-HQ-OPPT-2014-0486, to (1) EPA online using http://www.regulations.gov (our preferred method), by email to oppt.ncic@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Colby Lintner, Environmental Assistance Division, Office of Pollution Prevention and Toxics, Mail code: 7408-M, Environmental Protection Agency, 1200 Pennsylvania Ave. NW., Washington, DC 20460; telephone number: 202-554-1404; email address: TSCA-Hotline@epa.gov.

SUPPLEMENTARY INFORMATION:

Supporting documents, which explain in detail the information that the EPA will be collecting, are available in the public docket for this ICR. The docket can be viewed online at http://www.regulations.gov or in person at the EPA Docket Center, WJC West, Room 3334, 1301 Constitution Ave. NW., Washington, DC. The telephone number for the Docket Center is 202-566-1744. For additional information about EPA's public docket, visit http://www.epa.gov/dockets.

Abstract: This information collection involves third-party notification to owners and occupants of housing that will inform such individuals about the dangers of lead-contaminated dust and lead-based paint debris that are sometimes generated during renovations of housing where lead-based paint is present, thereby aiding them in avoiding potentially hazardous exposures and protecting public health. Since young children are especially susceptible to the hazards of lead, owners and occupants with children can take action to protect their children from lead poisonings. Section 406(b) of the Toxic Substances Control Act (TSCA) requires EPA to promulgate regulations requiring certain persons who perform renovations for compensation on target housing to provide a lead hazard information pamphlet (developed under TSCA section 406(a)) to the owner and occupants of such housing prior to beginning the renovation. Further, the firm performing the renovation must keep records acknowledging receipt of the pamphlet on file for three years after completion of work. Those who fail to provide the pamphlet or keep records as required may be subject to both civil and criminal sanctions.

Responses to the collection of information are mandatory (see 40 CFR part 745, subpart E). Respondents may claim all or part of a response confidential. EPA will disclose information that is covered by a claim of confidentiality only to the extent permitted by, and in accordance with, the procedures in TSCA section 14 and 40 CFR part 2.

Form Numbers: None.

Respondents/affected entities: Certain persons performing renovations of target housing, constructed prior to 1978, for compensation.

Respondent's obligation to respond: Mandatory.

Estimated number of respondents: 320,504 (total).

Frequency of response: On occasion.

Total estimated burden: 2,577,280 hours per year. Burden is defined at 5 CFR 1320.03(b).

Total estimated cost: $140,498,539 per year, includes $0 annualized capital or operation and maintenance costs.

Changes in the Estimates: There is no change in the total estimated respondent burden compared with that identified in the ICR currently approved by OMB.

Courtney Kerwin,
Acting Director, Collection Strategies Division.

[FR Doc. 2015-09846 Filed 4-27-15; 8:45 am]

BILLING CODE 6560-50-P